DEPARTMENT OF LABOR

Mine Safety and Health Administration

[OMB Control No. 1219-0146]

Proposed Extension of Information Collection; Refuge Alternatives for Underground Coal Mines

AGENCY: Mine Safety and Health Administration, Labor.

ACTION: Request for public comments.

SUMMARY: The Department of Labor (DOL), as part of its continuing effort to reduce paperwork and respondent burden, conducts a pre-clearance consultation program to provide the general public and Federal agencies with an opportunity to comment on proposed collections of information, in accordance with the Paperwork Reduction Act of 1995. This program helps to ensure that requested data can be provided in the desired format, reporting burden (time and financial resources) is minimized, collection instruments are clearly understood, and the impact of collection requirements on respondents can be properly assessed. The Mine Safety and Health Administration (MSHA) is soliciting comments on the information collection entitled Refuge Alternatives for Underground Coal Mines.

DATES: All comments must be received on or before December 3, 2024.

ADDRESSES: Comments concerning the information collection requirements of this notice may be sent by any of the methods listed below. Please note that late comments received after the deadline will not be considered.

• Federal eRulemaking Portal: https://www.regulations.gov. Follow the on-line instructions for submitting comments for docket number MSHA-2024-0021.

• Mail/Hand Delivery: DOL-MSHA, Office of Standards, Regulations, and Variances, 201 12th Street South, 4th Floor West, Arlington, VA 22202-5452. Before visiting MSHA in person, call 202-693-9455 to make an appointment, in keeping with the Department of Labor's COVID-19 policy. Special health precautions may be required.

• MSHA will post all comments as well as any attachments, except for information submitted and marked as confidential, in the docket at https://www.regulations.gov.

FOR FURTHER INFORMATION CONTACT: S. Aromie Noe, Director, Office of Standards, Regulations, and Variances, MSHA, at MSHA.information.collections@dol.gov (email); (202) 693-9440 (voice); or (202) 693-9441 (facsimile). These are not toll-free numbers.

SUPPLEMENTARY INFORMATION:

I. Background

A. Legal Authority

Section 103(h) of the Federal Mine Safety and Health Act of 1977 (Mine Act) as amended, 30 U.S.C. 813(h), authorizes the Mine Safety and Health Administration (MSHA) to collect information necessary to carry out its duty in protecting the safety and health of miners. Further, section 101(a) of the Mine Act, 30 U.S.C. 811(a), authorizes the Secretary of Labor (Secretary) to develop, promulgate, and revise, as may be appropriate, improved mandatory health or safety standards for the protection of life and prevention of injuries in coal, metal and nonmetal mines.

B. Information Collection

In order to fulfill the statutory mandates to promote miners' health and safety, MSHA requires the collection of information under the information collection request entitled Refuge Alternatives for Underground Coal Mines. The information collection is intended to ensure that underground coal mine operators have an up-to-date emergency response plan for refuge alternatives in case of an emergency and maintain proper records for personnel training certifications and examination, maintenance and repair of refuge alternatives.

1. Relocations of Refuge Alternatives

Refuge alternatives (RAs) are self-contained units within underground mines that have an isolated atmosphere and provided provisions in some emergency situations. Under 30 CFR 75.1506, the underground coal mine operator is required to provide RAs and their components to protect miners by providing secure spaces with isolated atmospheres that create life-sustaining environments when escape from a mine during a mine emergency is not possible.

The location of RAs is vital to the safety of miners. Typically, RAs are required in certain locations, such as within 1,000 feet from the nearest working face or within one-hour travel in outby areas (75 CFR 75.1506(c)). However, the mine operator may request approval to have the RA at a different location, if needed. Documentation of the RA, any documents associated with alternative locations, and approval of an Emergency Response Plan (ERP) are all required by MSHA.

Under 30 CFR 75.1506(c)(2), the mine operator may request and the District Manager may approve a different location for the RA in the ERP required by 30 CFR 75.1507, based on an assessment of the risk to miners in outby areas.

Under 30 CFR 75.1507(a)(11)(ii), a mine operator may request the District Manager's approval to update the existing ERP to locate an RA in an alternative location if mining involves two-entry systems or yield pillars in a longwall that would prohibit locating the RA out of direct line of sight of the working face.

2. Emergency Response Plans (ERP)

For RAs, the ERP specifies that the breathable air components are MSHA-approved, and the unit can withstand exposure to a flash fire of 300° Fahrenheit for three seconds. The ERP must also specify that the RA is stocked with the following: A minimum of 2,000 calories of food and 2.25 quarts of potable water per person per day in approved containers sufficient to sustain the number of persons reasonably expected to use the RA for at least 96 hours, or for 48 hours if advance arrangements are made. For RAs that sustain persons for only 48 hours, the ERP must describe how persons who cannot be rescued within 48 hours will receive additional supplies to sustain them until rescued. The ERP also must specify that the RA is stocked with RA and component manuals, materials and tools sufficient to make repairs on the unit, and first aid supplies.

Under 30 CFR 75.1507, underground coal mine operators must develop and implement ERPs that provide detailed information about the RAs used in the mine. An ERP must include the following information for each RA as listed in 30 CFR 75.1507(a): the type of RA used in the mine, procedures to maintain the RA and components, the capacity of the RA, the duration of breathable air in each RA, the method for providing breathable air, sanitation, removing harmful gas, methods for monitoring gas, and lighting.

3. Training Certification To Maintain and Repair RAs

The RAs are vital to miner safety. Any maintenance, examination, or repair must be completed by someone who is qualified to do so.

Under 30 CFR 75.1508(a), the mine operator must certify that persons assigned to examine, maintain, and repair RAs and components are trained for those tasks. This information collection concerns training certification requirements for persons assigned to maintain and repair RAs. Under 30 CFR 75.1508(c), training certifications must be kept at the mine for one year. (The training certification related to the examination of RAs and components is integrated into a currently approved information collection under OMB Control Number 1219-0009, Training Plans and Records of Training, for Underground Miners and Miners Working at Surface Mines and Surface Areas of Underground Mines, which governs training for certified persons to conduct preshift examinations of the mine under 30 CFR 75.360.)

4. Records of Repair and Corrective Actions

Any maintenance or repair performed for RAs and their components must be documented. Under 30 CFR 75.1508(b), a record must be made regarding any maintenance and repair performed and all corrective action taken on RAs and components. Under 30 CFR 75.1508(c), repair records shall be kept at the mine for one year.

II. Desired Focus of Comments

MSHA is soliciting comments concerning the proposed information collection related to Refuge Alternatives for Underground Coal Mines. MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The information collection request will be available on https://www.regulations.gov. MSHA cautions the commenter against providing any information in the submission that should not be publicly disclosed. Full comments, including personal information provided, will be made available on https://www.regulations.gov and https://www.reginfo.gov.

The public may also examine publicly available documents at DOL-MSHA, Office of Standards, Regulations and Variances, 201 12th Street South, 4th Floor West, Arlington, VA 22202-5452. Sign in at the receptionist's desk on the 4th Floor via the West elevator. Before visiting MSHA in person, call 202-693-9455 to make an appointment, in keeping with the Department of Labor's COVID-19 policy. Special health precautions may be required. Questions about the information collection requirements may be directed to the person listed in the FOR FURTHER INFORMATION CONTACT section of this notice.

III. Current Actions

This information collection request concerns provisions for Refuge Alternatives for Underground Coal Mines. MSHA has updated the data with respect to the number of respondents, responses, time burden, and burden costs supporting this information collection request from the previous information collection request.

Type of Review: Extension, without change, of a currently approved collection.

Agency: Mine Safety and Health Administration.

OMB Number: 1219-0146.

Affected Public: Business or other for-profit.

Number of Annual Respondents: 21.

Frequency: On occasion.

Number of Annual Responses: 27.

Annual Time Burden: 73 hours.

Annual Other Burden Costs: $17.

Comments submitted in response to this notice will be summarized and included in the request for Office of Management and Budget approval of the proposed information collection request; they will become a matter of public record and be available at https://www.reginfo.gov.

Song-ae Aromie Noe,
Certifying Officer, Mine Safety and Health Administration.

[FR Doc. 2024-22915 Filed 10-3-24; 8:45 am]

BILLING CODE 4510-43-P